DEPARTMENT OF ENERGY

National Energy Technology Laboratory; Notice of Availability of a Financial Assistance Solicitation

AGENCY: National Energy Technology Laboratory (NETL), Department of Energy (DOE).

ACTION: Notice of Availability of a Financial Assistance Solicitation.

SUMMARY: Notice is hereby given of the intent to issue Financial Assistance Solicitation No. DE-PS26-03NT41714 entitled “Support of Advanced Fossil Resource Utilization Research by Historically Black Colleges and Universities and other Minority Institutions.” The Department of Energy announces that it intends to conduct a competitive Program Solicitation and award financial assistance (grants) to U.S. Historically Black Colleges and Universities (HBCU) and Other Minority Institutions (OMI) in support of innovative research and development of advanced concepts pertinent to fossil resource conversion and utilization. Applications will be subjected to a review by a DOE technical panel, and awards will be made to a select number of applicants based on the scientific merit of the application, relevant program policy factors, and the availability of funds. Collaboration with private industry is encouraged.

DATES: The solicitation was made available on the “Industry Interactive Procurement System” (IIPS) webpage located at http://e-center.doe.gov on November 21, 2002. Applicants can obtain access to the solicitation from the address above or through DOE/NETL's Web site at http://www.netl.doe.gov/business.

FOR FURTHER INFORMATION CONTACT: Angela M. Delmastro, MS 921-107, U.S. Department of Energy, National Energy Technology Laboratory, 626 Cochran's Mill Road, Pittsburgh PA 15236, E-mail Address: angela.delmastro@netl.doe.gov, Telephone Number: 412-386-5038.

SUPPLEMENTARY INFORMATION: DOE anticipates issuing Financial Assistance (Grants) awards. Approximately 1.0 to 1.5 million of DOE funding is planned to award between 4 to 8 projects from this solicitation.

The intent of the Fossil Energy HBCU/OMI Program is to establish a mechanism for cooperative HBCU/OMI research and development projects; to provide faculty and student support at the institutions; to foster private sector participation and interaction with HBCU/OMIs in fossil energy research and development; to provide for the exchange of technical information and research hardware; to raise the overall level of competitiveness by the HBCU/OMIs with other institutions in the field of fossil research; and to tap a heretofore under-utilized resource by increasing the number of opportunities in the areas of science, engineering and technical management for HBCU/OMIs. The collaborative involvement of professors and students from the HBCU/OMI and the commercial sector in the development and execution of fresh new research ideas, and the establishment of linkages between the HBCU/OMI and private sector fossil energy community are essential to the success of this program and equally consistent with the goal of ensuring the U.S. a future supply of technically competent managers, scientists, engineers and technicians from a previously under-utilized resource. It will also serve to maintain and upgrade the educational, training, and research capabilities of our HBCUs/OMIs in the fields of science, engineering and technical management, and provide the talent for an improved utilization of the nation's fossil fuel resources. Therefore, the DOE's National Energy Technology Laboratory (NETL) invites HBCUs/OMIs, in collaboration with the private sector, to submit applications for innovative research and development of advanced concepts related to fossil energy utilization and conversion. The overall purpose of this collaborative effort is to improve prospective U.S. commercial capabilities, and to increase scientific and technical understanding of the chemical and physical processes involved in the conversion and utilization of fossil fuels, thereby broadening fossil resource and technology benefits to our commerce and the consumer. Thus, HBCU/OMI faculty members and their institutions, in collaboration with the private sector, are strongly encouraged to undertake fossil energy-related research and development or to continue ongoing work in this area. Pursuant to 10 CFR 600.6(b), eligibility for award under the subject solicitation is restricted to HBCUs/OMIs. Statutory authority for this Program is provided by Pub. L. 95-224, as amended by 97-258.

Once released, the solicitation will be available for downloading from the IIPS internet page. At this Internet site you will also be able to register with IIPS, enabling you to submit an application. If you need technical assistance in registering or for any other IIPS function, call the IIPS Help Desk at (800) 683-0751, or e-mail the Help Desk personnel at IIPS HelpDesk@e-center.doe.gov. The solicitation will only be made available in IIPS, no hard (paper) copies of the solicitation and related documents will be made available.

Prospective applicants who would like to be notified as soon as the solicitation is available should subscribe to the Business Alert Mailing List at http://www.netl.doe.gov/business. Once you subscribe, you will receive an announcement by E-mail that the solicitation has been released to the public. Telephone requests, written requests, E-mail requests, or facsimile requests for a copy of the solicitation package will not be accepted and/or honored. Applications must be prepared and submitted in accordance with the instructions and forms contained in the solicitation. The actual solicitation document will allow for requests for explanation and/or interpretation.

Issued in Pittsburgh, PA on November 19, 2002.
Dale A. Siciliano,
Director, Acquisition and Assistance Division.

[FR Doc. 02-30407 Filed 11-29-02; 8:45 am]

BILLING CODE 6450-01-P